DEPARTMENT OF AGRICULTURE

Foreign Agricultural Service

Trade Adjustment Assistance for Farmers

AGENCY: Foreign Agricultural Service, USDA.

ACTION: Notice.

The Administrator, Foreign Agricultural Service (FAS), denied a petition for trade adjustment assistance (TAA) for fresh potatoes that was filed on March 6, 2006, by the Washington State Potato Commission.

SUPPLEMENTARY INFORMATION: Upon investigation, the Administrator determined that imports did not contribute importantly to a decline in producer prices. During the 2004/2005 marketing year, imports declined by 5.1 percent. Therefore the Washington fresh potato petition did not meet the criteria that imports contributed importantly in a decline in producer prices, a condition required for certifying a petition for TAA.

FOR FURTHER INFORMATION CONTACT: Jean-Louis Pajot, Coordinator, Trade Adjustment Assistance for Farmers, FAS, USDA, (202) 720-2916, e-mail: trade.adjustment@fas.usda.gov.

Dated: March 17, 2006.
Michael W. Yost,
Administrator, Foreign Agricultural Service.

[FR Doc. E6-4521 Filed 3-28-06; 8:45 am]

BILLING CODE 3410-10-P